SMALL BUSINESS ADMINISTRATION

[Disaster Declaration # 16220 and # 16221; PENNSYLVANIA Disaster Number PA-00103]

Administrative Declaration of a Disaster for the Commonwealth of Pennsylvania

AGENCY: U.S. Small Business Administration.

ACTION: Notice.

SUMMARY: This is a notice of an Administrative declaration of a disaster for the Commonwealth of Pennsylvania dated 12/11/2019.

Incident: Severe Storms and High Winds.

Incident Period: 10/31/2019 through 11/01/2019.

DATES: Issued on 12/11/2019.

Physical Loan Application Deadline Date: 02/10/2020.

Economic Injury (EIDL) Loan Application Deadline Date: 09/11/2020.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: Notice is hereby given that as a result of the Administrator's disaster declaration, applications for disaster loans may be filed at the address listed above or other locally announced locations.

The following areas have been determined to be adversely affected by the disaster:

Primary Counties: Erie.

Contiguous Counties:

Pennsylvania: Crawford, Warren.

New York: Chautauqua.

Ohio: Ashtabula.

The Interest Rates are:

| Percent
For Physical Damage:
Homeowners with Credit Available Elsewhere | 3.000
Homeowners without Credit Available Elsewhere | 1.500
Businesses with Credit Available Elsewhere | 7.750
Businesses without Credit Available Elsewhere | 3.875
Non-Profit Organizations with Credit Available Elsewhere | 2.750
Non-Profit Organizations without Credit Available Elsewhere | 2.750
For Economic Injury:
Businesses & Small Agricultural Cooperatives without Credit Available Elsewhere | 3.875
Non-Profit Organizations without Credit Available Elsewhere | 2.750

The number assigned to this disaster for physical damage is 16220 B and for economic injury is 16221 0.

The States which received an EIDL Declaration # are Pennsylvania, New York, Ohio.

(Catalog of Federal Domestic Assistance Number 59008)

Christopher Pilkerton,
Acting Administrator.

[FR Doc. 2019-27241 Filed 12-17-19; 8:45 am]

BILLING CODE 8026-03-P